DEPARTMENT OF EDUCATION

Final Priorities; Disability and Rehabilitation Research Projects and Centers Program—Disability Rehabilitation Research Projects, etc.

AGENCY: Office of Special Education and Rehabilitative Services, Department of Education.

ACTION: Notice of final priorities.

Overview Information

[CFDA Numbers: 84.133A-6, 84.133A-7, and 84.133A-8] Final Priorities; Disability and Rehabilitation Research Projects and Centers Program—Disability Rehabilitation Research Projects (DRRP)—Americans with Disabilities Act (ADA) National Network Regional Centers (formerly the Disability Business Technical Assistance Centers (DBTACs), the ADA National Network Knowledge Translation Center, and the ADA National Network Collaborative Research Projects.

SUMMARY: The Assistant Secretary for Special Education and Rehabilitative Services announces three priorities under the DRRP program administered by the National Institute on Disability and Rehabilitation Research (NIDRR). Specifically, we announce (1) A priority for the Americans with Disabilities Act (ADA) National Network Regional Centers (Priority 1), (2) a priority for the ADA National Network Knowledge Translation Center (Priority 2), and (3) a priority for the ADA National Network Collaborative Research Projects (Priority 3). The Assistant Secretary may use one or more of these priorities for competitions in fiscal year (FY) 2011 and later years. We take this action to focus attention on areas of national need.

DATES: Effective Date: These priorities are effective July 29, 2011.

FOR FURTHER INFORMATION CONTACT: Lynn Medley, U.S. Department of Education, 400 Maryland Avenue, SW., room 5140, Potomac Center Plaza (PCP), Washington, DC 20202-2700. Telephone: (202) 245-7338 or by e-mail: lynn.medley@ed.gov.

If you use a telecommunications device for the deaf (TDD), call the Federal Relay Service, toll free, at 1-800-877-8339.

SUPPLEMENTARY INFORMATION: This notice of final priorities (NFP) is in concert with NIDRR's currently approved Long-Range Plan (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine the best strategies and programs to improve rehabilitation outcomes for underserved populations; (4) identify research gaps; (5) identify mechanisms of integrating research and practice; and (6) disseminate findings.

This notice announces three priorities that NIDRR intends to use for DRRP competitions in FY 2011 and possibly later years. However, nothing precludes NIDRR from publishing additional priorities if needed. Furthermore, NIDRR is under no obligation to make an award for any of these priorities. The decision to make an award will be based on the quality of applications received and available funding.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended (Rehabilitation Act).

Disability and Rehabilitation Research Projects

The purpose of NIDRR's Disability and Rehabilitation Research Projects (DRRPs) are to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, training, demonstration, development, dissemination, utilization, and technical assistance.

Program Authority: 29 U.S.C. 762(g) and 764(a).

Applicable Program Regulations: 34 CFR Part 350.

We published a notice of proposed priorities (NPP) for NIDRR's Disability and Rehabilitation Research Projects and Centers Program in the Federal Register on March 22, 2011 (76 FR 15964). That notice contained background information and our reasons for proposing priorities for the ADA National Network Regional Centers (ADA Regional Centers), the ADA National Network Knowledge Translation Center (ADA KT Center), and the ADA National Network Collaborative Research Projects.

Public Comment: In response to our invitation in the NPP, twelve parties submitted comments on the proposed priorities.

Generally, we do not address technical and other minor changes. In addition, we do not address general comments that raised concerns not directly related to the proposed priorities.

Analysis of Comments and Changes: An analysis of the comments and of any changes in the priority since publication of the NPP follows.

Americans with Disabilities Act (ADA) National Network Regional Centers (Priority 1)

Comment: One commenter asked whether applicants under Priority 1 have the option of proposing research activities.

Discussion: While Priority 1 does not require applicants to propose research activities, nothing in the priority precludes an applicant from proposing research in support of the activities that are required. What is critical is that an applicant addresses all of the required activities in its application.

Changes: None.

Comment: Three commenters noted that paragraph (a) of Priority 1 does not mention outreach and capacity building as key services provided by the ADA Regional Centers. The commenters recommended that NIDRR add those services to the list of activities that collectively make up the ADA Network Services.

Discussion: NIDRR agrees that outreach to ADA stakeholders and efforts to build their capacity to facilitate implementation of, and compliance with, the ADA are important services provided by the ADA Regional Centers.

Changes: NIDRR has revised paragraph (a) of Priority 1 to add outreach and capacity building to the list of required ADA Network Services.

Comment: Three commenters recommended that the ADA Regional Centers be required to ensure that all of their online information and information technology tools and products are accessible to individuals with disabilities. The commenters recommended that NIDRR reference standards developed under section 508 of the Rehabilitation Act (section 508) to ensure that accessibility.

Discussion: NIDRR agrees that the ADA Regional Centers' Web sites and information technology tools and products must be fully accessible to individuals with disabilities, and will emphasize that requirement by adding a specific reference to it in Priority 1.

Changes: NIDRR has revised the opening paragraph of Priority 1 to state that each ADA Regional Center must ensure that all Web sites and information technology tools and products that the ADA Regional Center develops or maintains are in compliance with the standards developed under section 508 of the Rehabilitation Act. NIDRR has similarly revised the opening paragraph of Priority 2, as described elsewhere in this notice in the discussion of that priority.

Comment: One commenter recommended that NIDRR revise paragraph (b)(1) of Priority 1 to emphasize that the database maintained by the ADA KT Center must be fully accessible to individuals with disabilities.

Discussion: Priority 1 is not the appropriate place to specify the accessibility requirements that the ADA KT Center must meet to ensure the accessibility of the database or other information technology tools and products developed or maintained by the ADA KT Center. NIDRR received a number of similar comments with respect to Priority 2, the ADA KT Center priority, and will address those comments in the discussion of that priority.

Changes: None.

Comment: One commenter suggested that NIDRR specify in paragraph (b)(1) of Priority 1 permissible methods by which the ADA Regional Centers can submit data to the ADA KT Center's national database. Specifically, the commenter suggested that we make clear that ADA Regional Centers can submit data into the database by direct entry of data, as well as submission of batch data files from their regional databases. This commenter noted that a number of current ADA Regional Centers maintain separate databases, from which they produce, and submit to the national database, batch files of data about the ADA Network Services that they provide.

Discussion: We drafted Priority 1 to require the ADA Regional Center grantees to enter data directly into the database maintained by the ADA KT Center. Under this priority, ADA Regional Centers may not import batch files from their local databases into the ADA KT Center's database. Direct entry into a single ADA National Network database will facilitate the quality and consistency of data that the 10 ADA Regional Centers collect and will help ensure that we accurately describe and account for the services that they collectively provide to ADA stakeholders. By using a single database, rather than multiple ones, we avoid duplication of effort and the inefficient use of Federal resources.

Changes: None.

Comment: One commenter noted that the three required categories of data enumerated in paragraph (b)(1) of Priority 1 were negotiated and agreed upon by NIDRR, the ADA Regional Centers, and the Coordination, Outreach, and Research Center (CORC) during the 2006-2011 grant funding cycle. This commenter asked if the three data categories listed in paragraph (b)(1) of the priority will be recognized and required in the next funding cycle.

Discussion: Paragraph (b)(1) of Priority 1 identifies three primary categories of data that each ADA Regional Center must collect and enter into the ADA KT Center's database. It is true that these three categories of data were agreed upon during the 2006-2011 funding cycle. We have included these categories in this priority to provide all applicants with information about the data that NIDRR will require them to collect. Accordingly, entities awarded a grant under Priority 1 would be required to submit at least these categories of data during their grant cycle. We anticipate using this priority in the FY 2011 grant competition.

Changes: None.

Comment: Two commenters suggested that we revise paragraph (b)(1) of Priority 1 to require that the database maintained by the ADA KT Center be “user-friendly” so that the ADA Regional Centers can easily enter the required data.

Discussion: The database referenced by the commenter is operated and maintained by the ADA KT Center, which is funded under Priority 2. Priority 1 is therefore not the appropriate place to address the requirements of the database. NIDRR received a number of similar comments in response to Priority 2, the ADA KT Center priority, and will address those comments in the discussion related to that priority.

Changes: None.

Comment: One commenter questioned the necessity of funding ten regional centers under this priority. The commenter noted the potential programmatic efficiency and fiscal benefits of instead having a single ADA technical assistance center.

Discussion: NIDRR believes that the strength of the ADA National Network (that is, the 10 ADA Regional Centers working together with the ADA KT Center and ADA Collaborative Research Projects) exists in the ability of each ADA Regional Center to understand and address the unique regional and local constituent needs for ADA Network Services. Maintaining this regional structure facilitates regional and local relationships and partnerships that foster implementation of, and compliance with the ADA. At the same time, NIDRR aims to create efficiencies in the regional network through the activities of the ADA KT Center. The ADA KT Center is responsible for assisting the ADA Regional Centers to achieve optimal efficiency and impact of their training, technical assistance, and information dissemination activities.

Changes: None.

Comment: Two commenters recommended that, due to the low employment status of individuals with disabilities, NIDRR should prioritize ADA Network Services to U.S. businesses to stimulate the employment or re-employment of individuals with disabilities during the economic recovery.

Discussion: Nothing in Priority 1 precludes grantees from prioritizing the provision of ADA Network Services, including providing training and technical assistance on Title I of the ADA, to employers. However, the requirements in the ADA also apply to a wide range of public services and public accommodations, and the ADA Regional Centers must provide ADA Network Services that are responsive to the needs of a wide variety of individuals and entities with rights and responsibilities under all Titles of the ADA.

Changes: None.

Comment: One commenter recommended that we revise Priority 1 to require the ADA Regional Centers to provide training and technical assistance focused on several specific topic areas. The commenter suggested that the ADA Regional Centers be required to provide training and technical assistance on accessible communication and information technology. The commenter also stated that the ADA Regional Centers should be required to provide training and technical assistance focusing on emergency preparedness for people with disabilities. This commenter also recommended that Priority 1 be revised to require training and technical assistance focusing on accessible voting for individuals with disabilities.

Discussion: Under Priority 1, the ADA Regional Centers are required to implement a sustained program of ADA Network Services that are designed to contribute to the improved understanding by ADA stakeholders of their rights and responsibilities under the ADA. In paragraph (a) of the priority, we make clear that we anticipate that ADA stakeholders will need information on longstanding ADA requirements as well as recent changes affecting those requirements and information on issues associated with ADA compliance in emerging areas, such as access to information technologies and emergency management services. The priority does not provide an exhaustive list of required topic areas because we expect each ADA Regional Center to design its services to meet the specific needs of the ADA stakeholders it serves. Accordingly, while not specifically listed in the priority, ADA Regional Centers should be prepared to provide training and technical assistance on the topics mentioned by these commenters, as well as on all aspects of employment of people with disabilities, and on the wide variety of public services and accommodations covered by the ADA.

Changes: None.

Comment: One commenter recommended that we revise Priority 1 to require the ADA Regional Centers to provide training and technical assistance focused on several specific topic areas. The commenter suggested that the ADA Regional Centers be required to provide training and technical assistance on accessible communication and information technology. The commenter also stated that the ADA Regional Centers should be required to provide training and technical assistance focusing on emergency preparedness for people with disabilities. This commenter also recommended that Priority 1 be revised to require training and technical assistance focusing on accessible voting for individuals with disabilities.

Discussion: Under Priority 1, the ADA Regional Centers are required to implement a sustained program of ADA Network Services that are designed to contribute to the improved understanding by ADA stakeholders of their rights and responsibilities under the ADA. In paragraph (a) of the priority, we make clear that we anticipate that ADA stakeholders will need information on longstanding ADA requirements as well as recent changes affecting those requirements and information on issues associated with ADA compliance in emerging areas, such as access to information technologies and emergency management services. The priority does not provide an exhaustive list of required topic areas because we expect each ADA Regional Center to design its services to meet the specific needs of the ADA stakeholders it serves. Accordingly, while not specifically listed in the priority, ADA Regional Centers should be prepared to provide training and technical assistance on the topics mentioned by these commenters, as well as on all aspects of employment of people with disabilities, and on the wide variety of public services and accommodations covered by the ADA.

Changes: None.

Comment: One commenter recommended that we revise Priority 1 to require the ADA Regional Centers to address the needs of transition-age youth in their information dissemination and training activities. The commenter noted that there is little Federal funding supporting programs that teach transition-age youth about their rights and responsibilities under the ADA. This commenter also recommended that Priority 1 require ADA Regional Centers to provide training and resources related to implementation of the U.S. Supreme Court's Olmstead decision. The commenter noted the importance of training in this area for youth with disabilities who lose home care services as they age out of childhood Medicare programs.

Discussion: NIDRR agrees that transition-age youth with disabilities are an important ADA stakeholder group, and that training and technical assistance related to implementation of the Supreme Court's Olmstead decision may be of specific assistance to them as they seek community supports and services. However, NIDRR does not require the provision of training and technical assistance to specific groups of ADA stakeholders, nor does it require training and technical assistance on specific public programs and policies such as those that implement the Olmstead decision. ADA Regional Centers should be prepared to provide training and technical assistance to the wide range of individuals and entities with rights and responsibilities under the ADA, including transition-age youth with disabilities, and on the wide variety of public services and accommodations covered by the ADA, as part of their general responsibility under the priority to implement a sustained program of ADA Network Services that improves understanding by ADA stakeholders of their rights and responsibilities under the ADA.

Changes: None.

Comment: One commenter stated that in the wake of recent Federal legislation such as the 2008 amendments to the ADA, and the recent health care reform legislation there is a need for training and information on the accessibility of recreation facilities and medical equipment frequently used by children and youth with disabilities. The commenter suggested that the ADA Regional Centers should provide this training and information.

Discussion: While NIDRR does not require the provision of training and technical assistance on specific topics such as accessibility of recreation facilities and medical equipment, we expect the ADA Regional Centers to tailor the ADA Network Services to the needs of the ADA stakeholders in its region. Therefore, ADA Regional Centers should be prepared to provide training and technical assistance on the wide variety of public services and accommodations covered by the ADA and this very well may include the accessibility of recreation facilities and medical equipment.

Changes: None.

Comment: Two commenters suggested that NIDRR revise Priority 1 to more clearly describe the role of the ADA Regional Centers as outlets for knowledge translation. One of these commenters suggested that NIDRR require each ADA Regional Center to develop a regional knowledge translation plan.

Discussion: NIDRR does not agree that a more prescriptive approach to the role of the ADA Regional Centers, or requiring each ADA Regional Center to develop a regional KT plan would improve ADA Network Services. The core function of the ADA Regional Centers is knowledge translation in that ADA Regional Centers must translate and deliver available ADA knowledge and information to ADA stakeholders through outreach, training, technical assistance, information dissemination, and capacity building. We believe that Priority 1 provides grantees with an appropriate framework to ensure these knowledge translation activities are carried out, while giving grantees the flexibility they need to provide services that are responsive to the specific knowledge and information needs of the ADA stakeholders in their regions.

Changes: None.

Comment: One commenter recommended that NIDRR revise Priority 1 to add “legal updates” to the list of information services and products to be delivered under paragraph (c)(1).

Discussion: NIDRR does not intend the list of materials, products, and services in paragraph (c)(1) of Priority 1 to be exhaustive. Nothing in the priority precludes ADA Regional Center applicants from proposing to provide legal updates under paragraph (c)(1). However, NIDRR does not have a sufficient basis for requiring all applicants to do so.

Changes: None.

Comment: One commenter recommended that we revise Priority 1 to require ADA Regional Centers to collaborate and coordinate with the Department's AT Act programs in their respective region when conducting training, technical assistance, outreach, and dissemination activities.

Discussion: NIDRR agrees that collaboration between the ADA Regional Centers and the AT Act programs may help in the provision of training and technical assistance, and in expanding outreach and dissemination efforts to ADA stakeholders. Nothing in Priority 1 precludes applicants from proposing partnerships with AT Act programs. At the same time, NIDRR does not have a sufficient basis for requiring all applicants to do so.

Changes: None.

Comment: One commenter recommended that the ADA Regional Centers collaborate with the Parent Training Information Centers and the Community Parent Resource Centers funded by the Department's Office of Special Education Programs (OSEP), and Parent Information and Training projects funded by the Department's Rehabilitation Services Administration (RSA), in order to provide ADA information and training to families of children and youth with disabilities.

Discussion: NIDRR agrees that these partnerships may facilitate the provision of ADA information to families and parents of children and youth with disabilities. Nothing in Priority 1 precludes applicants from proposing partnerships with Parent Training and Information Projects funded by OSEP, or Parent Training and Information Projects funded by the RSA. At the same time, NIDRR does not have a sufficient basis for requiring all applicants to do so. Applicants for the ADA Regional Centers have a large number of potential collaborators and dissemination partners. NIDRR does not want to limit applicants' choices by requiring partnerships with a limited set of entities.

Changes: None.

Comment: One commenter asked if two organizations can partner to apply for one ADA Regional Center, and if so, which applicant would be awarded the grant.

Discussion: Two or more organizations can partner to submit an application under the ADA Regional Center priority. Eligible applicants include States, public or private agencies, including for-profit agencies; public or private organizations, including for-profit organizations; institutions of higher education; and Indian tribes and tribal organizations. In submitting an application, partnering applicants must designate which organization will serve as the lead applicant. Parts 75.127-75.129 of the Education Department General Administrative Regulations (EDGAR) describe requirements for group applications.

Changes: None.

Priority 2—ADA National Network Knowledge Translation Center

Comment: One commenter suggested that NIDRR specifically include RSA when referencing the Network's “Federal partners” in paragraph (a)(4) of Priority 2.

Discussion: NIDRR agrees that RSA is an important Federal partner. In paragraph (a)(4) of Priority 2, which relates to annual meetings of the ADA National Network Project Directors, we have only specifically identified the U.S. Department of Justice and the Equal Employment Opportunity Commission because these partners have direct responsibility for enforcing the ADA. However, we also make clear in paragraph (a)(4) of Priority 2 that the ADA KT Center may include “other relevant agencies” in its organization of annual meetings of the ADA Regional Centers' Project Directors meetings and RSA could certainly be included under this category.

Changes: None.

Comment: One commenter recommended that NIDRR require the ADA KT Center to partner with OSEP's network of Parent Training and Information Projects, as well as with RSA's Parent Training and Information Projects. The commenter noted that families of children with disabilities do not have adequate knowledge of the responsibilities of day care providers under the ADA, or of how families of children with disabilities may be protected by specific ADA provisions. The commenter recommended that we require the ADA KT Center to enter into these partnerships to ensure that targeted ADA information is provided to families and parents of children with disabilities, and to child care providers.

Discussion: NIDRR agrees that these partnerships may help ensure that ADA information is provided to families and parents of children with disabilities. Nothing in Priority 2 precludes applicants from proposing partnerships with OSEP's Parent Training and Information Projects or RSA's Parent Training and Information Projects. However, NIDRR does not have a sufficient basis for requiring all applicants to do so. Applicants for this ADA KT Center have a large number of potential collaborators and dissemination partners with whom they may wish to work. NIDRR does not want to limit applicants' choices by requiring partnerships with a limited set of entities.

Changes: None.

Comment: Two commenters noted that paragraph (a) of Priority 2 does not mention outreach and capacity building as key services provided by the ADA Regional Centers. The commenters recommended that NIDRR revise the priority to include those activities in the list of ADA Network Services.

Discussion: NIDRR agrees that outreach to ADA stakeholders, and efforts to build their capacity to facilitate implementation of and compliance with the ADA, are important services provided by the ADA National Network, including the ADA KT Center.

Changes: NIDRR has revised paragraph (a) of Priority 2 to add outreach and capacity building to the list of required ADA Network Services.

Comment: One commenter noted the importance of the ADA KT Center's toll-free telephone number as a way for ADA stakeholders to contact the ADA National Network and receive technical assistance on the ADA. This commenter recommended that the ADA KT Center be required to maintain, administer, and provide logistical and financial support for the ADA National Network's toll-free telephone number.

Discussion: NIDRR agrees that this toll-free telephone number is an important resource for ADA stakeholders to contact the ADA National Network. Although NIDRR expects the 10 ADA Regional Centers and the ADA KT Center to negotiate and implement the most efficient means of maintenance and administration of this resource, it is beyond the scope of this priority to prescribe the mechanisms by which telephone services for the ADA National Network will be maintained.

Changes: None.

Comment: Three commenters recommended that we revise Priority 2 to require the ADA KT Center to ensure that all of its online information and information technology tools and products are accessible to individuals with disabilities. Specifically, the commenters recommended that NIDRR revise the priority to require that these online tools and products comply with standards developed in accordance with section 508 of the Rehabilitation Act to ensure their accessibility.

Discussion: NIDRR agrees that the Web sites and information technology tools and products of the ADA KT Center should be fully accessible to individuals with disabilities, and will emphasize the requirement by adding a specific reference to it in Priority 2.

Changes: NIDRR has revised the opening paragraph of Priority 2 to state that the ADA KT Center must ensure that all Web sites and information technology tools and products it develops or maintains are in compliance with the standards developed under section 508 of the Rehabilitation Act. NIDRR has similarly revised the opening paragraph of Priority 1, as described elsewhere in this notice, in the discussion of that priority.

Comment: Two commenters recommended that Priority 2 require that the ADA KT Center ensure that all of their online information and information technology tools and products are user-friendly.

Discussion: NIDRR agrees that the database maintained by the ADA KT Center under paragraph (d)(1) of Priority 2 should be easy to use for the ADA Regional Center staff who must use it. The users of this database are a small group of ADA Regional Center grantees. Under paragraph (d)(1) of Priority 2, the ADA KT Center is required to ensure a user-friendly interface for these users. For the other online information and information technology tools and products that are described in Priority 2, there are a large number of users with varying needs. Because “user-friendliness” can vary widely depending on the user, and in the absence of agreed-upon, enforceable standards for the “user-friendliness” of online information and information technology tools and products, NIDRR does not believe it can apply this requirement broadly as part of Priority 2.

Changes: None.

Comment: Two commenters suggested that the ADA KT Center should be required to collaborate with the ADA Regional Centers under paragraph (b)(2) of Priority 2, to identify knowledge gaps among ADA stakeholders and related ADA research topics.

Discussion: Priority 2 requires the ADA KT Center to collaborate directly with ADA stakeholders to help identify ADA knowledge gaps. Although Proposed Priority 2 did not explicitly say so, the ADA KT Center may propose to collaborate with the ADA Regional Centers to help identify ADA knowledge gaps among ADA stakeholders, a point we will clarify in the final priority. However, NIDRR believes that making this collaboration a requirement could limit opportunities and resources for other appropriate and innovative collaborations related to this task. For this reason, we will not require this collaboration under the priority.

Changes: NIDRR has revised paragraph (b)(2) of Priority 2 to state that the ADA KT Center may collaborate with the ADA Regional Centers to help identify ADA knowledge gaps.

Comment: Two commenters suggested that, under paragraph (d)(1) of Priority 2, the ADA KT Center should be required to collaborate with the ADA Regional Centers to continue the operation and maintenance of the existing database for data submitted by each of the ADA Regional Centers.

Discussion: The operation and maintenance of a database involves a variety of ongoing tasks to ensure that software and hardware are fully functional and available for use. These tasks to be carried out by the ADA KT Center do not require direct collaboration with the ADA Regional Centers. However, under paragraph (d)(4) of Priority 2, the ADA KT Center is required to collaborate with NIDRR and the ADA Regional Centers to ensure that the database is accurate, comprehensive, easy-to-use, and up-to-date.

Changes: None.

Comment: Three commenters suggested that the ADA KT Center should be required to collaborate with the ADA Regional Centers under paragraph (d)(2) of Priority 2, in order to help identify the training and technical assistance needs related to analysis and use of the database.

Discussion: NIDRR agrees that the ADA KT Center should be required to work with the ADA Regional Centers to identify the ADA Regional Centers' database-related training and technical assistance needs so that the ADA KT Center is better able to tailor the training and technical assistance services it provides to the needs of the ADA Regional Centers.

Changes: NIDRR has revised paragraph (d)(2) of Priority 2 to require the ADA KT Center to identify the database-related training and technical assistance needs of the ten ADA Regional Centers.

Comment: Three commenters suggested that NIDRR revise paragraph (d)(2) of Priority 2 to specify that the provision of database-related training and technical assistance should be on an as-needed basis.

Discussion: NIDRR agrees that the ADA KT Center should provide database-related training and technical assistance to the ADA Regional Centers on an as-needed basis. NIDRR also believes that the ADA KT Center must provide regular, consistent training and technical assistance to all 10 ADA Regional Centers to help ensure the quality and consistency of data that are gathered and entered directly into the database by the Regional Centers.

Changes: NIDRR has revised paragraph (d) of Priority 2 to specify that the ADA KT Center must provide formal, scheduled training and technical assistance to all 10 ADA Regional Centers on the use of the database and that the ADA KT Center must provide targeted database-related training and technical assistance to individual centers on an as-needed basis.

Comment: Three commenters noted that paragraphs (d)(3) and (d)(4) of Priority 2 appear to be duplicative and suggested that NIDRR delete the data-quality monitoring requirements in paragraph (d)(3) of Priority 2.

Discussion: NIDRR does not agree that these paragraphs have duplicative requirements. Paragraph (d)(3) requires regular and ongoing monitoring of data quality. Monitoring for data quality includes, for example, analyses to determine rates of missing or incomplete data, and analyses to determine whether data fall within the specified ranges of response options. The requirements in paragraph (d)(4) are broader, and involve ongoing discussions to ensure that the data fields and response options accurately reflect up-to-date ADA policies and regulations, as well as discussions about how to optimize the user-friendliness of the database.

Changes: None.

Comment: Three commenters asked NIDRR to require that the database described in paragraph (d)(1) of Priority 2 allow the ADA Regional Centers to generate reports that support their Annual Performance Reporting requirements.

Discussion: NIDRR believes that this request is already sufficiently covered by the requirement in paragraph (d)(1) of Priority 2, which states that the database must provide data retrieval capabilities. The detailed information in the database can be used by the ADA Regional Centers aggregated to produce reports that meet ADA Regional Centers' more general annual performance reporting requirements for NIDRR.

Changes: None.

Comment: Two commenters asked whether NIDRR intended to transfer the database described under paragraph (d)(1) from the DBTAC CORC to the new ADA KT Center. The commenters asked NIDRR to provide details about the existing database software framework and design so that applicants can prepare a cost estimate for the requirement to operate and maintain the database.

Discussion: NIDRR does intend to transfer the database described under paragraph (d)(1) to the new ADA KT Center. NIDRR will make information about the database software framework and design available to interested applicants. Applicants that are interested in receiving this information should contact the person listed under FOR FURTHER INFORMATION CONTACT in this notice.

Changes: None.

Comment: One commenter noted that the existing database described in paragraph (d)(1) of Priority 2 is designed to collect information about the delivery of ADA Network Services. This commenter recommended that NIDRR require the ADA KT Center to work with the ADA Regional Centers to design a system for measuring the outcomes of ADA Network Services.

Discussion: NIDRR agrees that the addition of a formal mechanism for measuring the outcomes of the ADA Network Services would benefit the Network and its stakeholders and will therefore make a change to this effect in paragraph (d) of Priority 2.

Changes: NIDRR has added a provision to paragraph (d) to require the development and implementation of a process and system for measuring and tracking the outcomes of ADA Network Services.

Comment: One commenter recommended that NIDRR revise paragraph (a)(2) of Priority 2 to further specify that the ADA KT Center must work with each individual ADA Regional Center to develop regional KT plans, and then work with the 10 ADA Regional Centers to organize the most effective strategies to optimize the efficiency and impact of the ADA Network Services.

Discussion: NIDRR does not agree that the outcome of optimal efficiency and impact of the ADA National Network Services would be facilitated by requiring each ADA Regional Center to work with the ADA KT Center to develop a regional KT plan. Such a requirement would be redundant with the core function of the ADA Regional Centers, which is to translate and deliver available ADA information and knowledge to ADA stakeholders.

Changes: None.

Comment: Two commenters suggested that NIDRR revise paragraph (d)(1) of Priority 2 to specify the methods by which the ADA Regional Centers will submit data to the database to include direct entry of data, and submission of batch files.

Discussion: Priority 2, the ADA KT Center priority, is not the appropriate place to specify the methods by which the ADA Regional Centers will submit data to the database. NIDRR received a number of similar comments on Priority 1, the ADA Regional Center priority, and addressed those comments there.

Changes: None.

Comment: One commenter recommended that the ADA KT Center consider the impact of policy and practice on ADA research.

Discussion: NIDRR agrees that ADA research should be informed by, and be relevant to, ADA policy and practice. Under paragraph (b)(2) of Priority 2, the ADA KT Center must collaborate with ADA stakeholders to determine ADA knowledge gaps. Nothing in the priority precludes applicants from proposing collaborations with policymakers, service providers, and other relevant stakeholders to determine knowledge gaps and shape future ADA research topics.

Changes: None.

Comment: One commenter recommended that NIDRR revise paragraph (a)(3) of Priority 2 to allow applicants to either propose to maintain the current ADA document portal, or to propose an alternative mechanism so that ADA Regional Centers and ADA stakeholders can have easy access to ADA documents that they need.

Discussion: NIDRR agrees that applicants for the ADA KT Center should be allowed to propose alternatives and improvements to the current ADA document portal.

Changes: NIDRR has revised paragraph (a)(3) of Priority 2 to allow applicants to propose and implement new methods that allow fast and efficient identification and retrieval of documents relevant to the ADA.

Priority 3—ADA National Network Collaborative Research Projects

Comment: Several commenters questioned the eligibility requirement in the opening paragraph of Priority 3, which states that eligibility is restricted to applicants that have received a grant under the ADA Regional Center priority. Three commenters suggested that other entities, including other NIDRR grantees with expertise that is relevant to the ADA, should be allowed to apply. Another commenter questioned the eligibility limitation because, in the commenter's view, the ADA Regional Centers are not able to conduct research that is national in scope.

Discussion: NIDRR's ADA National Network program is evolving into a network of grantees that is capable of conducting multi-site research and generating new knowledge of national significance related to ADA implementation and compliance. NIDRR has designed Priority 3 to utilize this network. Therefore, only ADA Regional Centers are eligible to apply as lead applicants under Priority 3. While the lead applicant must be an ADA Regional Center, applicants are free to include research partners that are not part of the ADA National Network in their research proposal.

With regard to the commenter that stated that the ADA Regional Centers are not able to provide research that is national in scope, NIDRR believes that the network of ADA Regional Centers does have the capacity to conduct high-quality, multi-site ADA research that is of national significance. NIDRR requires lead applicants to collaborate with three or more ADA Regional Centers to help ensure that the research is of significance to all U.S. regions.

Changes: None.

Comment: One commenter suggested that restricting the eligibility to ADA Regional Centers in Priority 3 would limit applicants' choice of research partners.

Discussion: Nothing in Priority 3 restricts applicants in their choice of research partners. While applicants must propose to collaborate with at least three additional ADA Regional Centers, they may also propose an unlimited number of research partners that are not part of the ADA National Network.

Changes: None.

Comment: One commenter asked whether each ADA Regional Center is expected to participate in an ADA Collaborative Research Project.

Discussion: ADA Regional Centers are not required to participate in an ADA Collaborative Research Project.

Changes: None.

Comment: One commenter asked NIDRR to set minimum budget commitments for ADA Regional Centers who participate in ADA Collaborative Research Projects.

Discussion: NIDRR has not set minimum budgets for ADA Regional Centers that choose to participate in ADA Collaborative Research Projects because the costs for the ADA Regional Center's participation in an ADA Collaborative Research Project are covered under the Collaborative Research grant. The recipients of the Collaborative Research Project grants under Priority 3 are expected to subcontract with the other participating ADA Regional Centers.

Changes: None.

Comment: One commenter asked whether, under Priority 3, the new ADA KT Center would be eligible to apply for an ADA Collaborative Research grant.

Discussion: Receiving an award under Priority 2, the ADA KT Center priority, does not make that grantee eligible for an award under the ADA National Network Collaborative Research Projects priority. An applicant must have received a grant under Priority 1, the ADA National Network Regional Center priority, in order to be eligible for an ADA National Network Collaborative Research grant.

Changes: None.

Comment: One commenter expressed concern that NIDRR may be focusing exclusively on employment-related ADA research, to the exclusion of ADA research that focuses on participation and community living or health and function outcomes. The commenter asked NIDRR to add language to Priority 3 to emphasize that the priority is not solely focused on employment-related research.

Discussion: Nothing in Priority 3 precludes applicants from focusing their ADA research on questions related to participation and community living outcomes, or health and function outcomes. The priority makes clear that applicants must conduct research on one or more areas in the ADA, and may focus their research on one or more titles in the ADA—not just employment-related research that would be relevant under Title I. NIDRR does not believe that there is anything in Priority 3 that emphasizes one area of ADA research over others.

Changes: None.

Comment: One commenter suggested that Priority 3 emphasize research that explores the connections and emerging policy issues that arise between the ADA and other statutes that promote inclusion of people with disabilities, including the Air Carrier Access Act, Fair Housing Act, Transportation Act, and Communications Act.

Discussion: Nothing in Priority 3 precludes applicants from proposing collaborative research on these policy topics. However, NIDRR does not have sufficient basis to require all applicants to do so.

Changes: None.

Comment: One commenter asked whether the ADA Collaborative Research Projects would be restricted to large database exploration, or if development, intervention, and utility studies would be encouraged.

Discussion: Priority 3 does not restrict the type of research studies that can be proposed and conducted. The priority only specifies that applicants must use appropriate and clearly-identified research designs to generate reliable and valid findings.

Changes: None.

Final Priorities

Priority 1—Americans with Disabilities Act (ADA) National Network Regional Centers

The Assistant Secretary for Special Education and Rehabilitative Services establishes a priority for the funding of 10 Disability and Rehabilitation Research Projects (DRRPs) to serve as the ADA National Network Regional Centers (formerly known as Disability Business Technical Assistance Centers (DBTACs)), one within each of the 10 U.S. Department of Education regions that cover the United States. Together, the 10 ADA National Network Regional Centers (ADA Regional Centers), along with the ADA National Network Knowledge Translation Center (ADA KT Center, funded under a separate priority) and the ADA Collaborative Research Projects (funded under a separate priority) will comprise the ADA National Network.

Each ADA Regional Center must ensure that all Web sites and information technology tools and products that the ADA Regional Center develops or maintains are in compliance with standards developed under section 508 of the Rehabilitation Act (29 U.S.C. 794d).

Each ADA Regional Center must be designed to contribute to the following outcomes:

(a) Improved understanding by ADA stakeholders of their rights and responsibilities under the ADA. Each ADA Regional Center must contribute to this outcome by implementing a sustained program of outreach, training, technical assistance, information dissemination, and capacity building (collectively, ADA Network Services), aimed at ADA stakeholders, including local, regional, and national groups representing such stakeholders. NIDRR anticipates that ADA stakeholders will need information on both longstanding ADA requirements as well as recent legislative and regulatory changes affecting those requirements, such as the ADA Amendments Act, the revised title II and III regulations (28 CFR Parts 35 and 36, respectively), the anticipated revisions to the title I regulations (29 CFR Part 1630), and information on issues associated with ADA compliance in emerging areas such as access to information technologies and emergency management services. For purposes of this priority, the term “ADA stakeholders” refers to individuals and entities with rights and responsibilities under the ADA.

(b) Improved understanding of ADA stakeholders' need for and receipt of ADA Network Services over time, including services to address emerging issues related to compliance with ADA requirements. Each of the 10 ADA Regional Centers must contribute to this outcome by—

(1) Entering, directly into the database maintained by the ADA KT Center, the required data about each of the ADA Network Services that it provides. These data must include, but are not limited to, (1) the ADA title or titles, regulations, and specific topics that are addressed by the ADA Network Services provided, (2) the modality of service provision (e.g., in-person presentation, webinar), and (3) non-personally identifiable information about the recipient or recipients of the ADA Network Services;

(2) Collaborating with the ADA KT Center to analyze data about ADA stakeholder requests for information and the services that the ADA Regional Center provides, and applying new knowledge from those analyses to further tailor and improve the provision of ADA Network Services; and

(3) Identifying and implementing other appropriate methods for assessing the needs of ADA stakeholders.

(c) Enhanced efficiency and effectiveness of ADA Network Services. Each of the ten ADA Regional Centers must contribute to this outcome by—

(1) Partnering with the ADA KT Center and other ADA Regional Centers to develop, provide, and distribute ADA training and technical assistance materials, and other informational products and services. These materials, products, and services include, but are not limited to, the ADA National Network Web site, as well as materials, products, and services that are relevant to ADA stakeholders in multiple regions.

(2) Attending and participating in the annual meetings of the ADA Regional Centers' Project Directors, to be held in Washington, DC.

Priority 2— Americans With Disabilities Act (ADA) National Network Knowledge Translation Center (ADA KT Center)

The Assistant Secretary for Special Education and Rehabilitative Services establishes a priority for the funding of a Disability and Rehabilitation Research Project (DRRP) to serve as an Americans with Disabilities Act (ADA) National Network Knowledge Translation Center (ADA KT Center). For purposes of this priority, the term “ADA stakeholders” refers to individuals and entities with rights and responsibilities under the ADA.

The ADA KT Center must ensure that all Web sites and information technology tools and products that it develops or maintains are in compliance with standards developed under section 508 of the Rehabilitation Act (29 U.S.C. 794d).

Under this priority, the ADA KT Center must be designed to contribute to the following outcomes:

(a) Optimal efficiency and impact of the ADA National Network's outreach, training, technical assistance, information dissemination, and capacity building activities (ADA Network Services). The ADA KT Center must contribute to this outcome by—

(1) Establishing and implementing an online system to enable the 10 ADA Regional Centers to share training and technical assistance documents and other materials;

(2) Facilitating the joint development of ADA products and materials by the 10 ADA Regional Centers in content areas in which it is possible to maximize resources and avoid duplication of efforts;

(3) Serving as the central repository for ADA National Network information and products, and maintaining ADA Network document portals and Web sites currently funded by NIDRR. In this role, the ADA KT Center may propose new methods and approaches to ensure fast and efficient identification and retrieval of ADA documents by ADA Regional Centers and ADA stakeholders; and

(4) Organizing and providing logistical and financial support for annual meetings of the ADA Regional Centers' Project Directors in Washington, DC. These meetings will facilitate collaboration between the 10 ADA Regional Centers, and will allow the Project Directors of the ADA Regional Centers to meet and share information directly with their Federal partners in the U.S. Department of Justice, Equal Employment Opportunity Commission, and other relevant agencies.

(b) Increased use of available ADA-related research findings to inform behavior, practices, or policies that improve equal access in society for individuals with disabilities. The ADA KT Center must contribute to this outcome by—

(1) Systematically reviewing existing ADA-related research. The ADA KT Center must identify and conduct systematic reviews of individual ADA research studies to assess the quality of those studies and to synthesize the findings from those studies. In so doing, the ADA KT Center must select appropriate review methods, taking into account the type of research and stage of knowledge development in each area of ADA research. These areas may include, but are not limited to research on specific titles of the ADA, research on ADA issues in specific industries, and research on ADA issues that are relevant to individuals with specific types of disabilities; and

(2) Identifying, for future research, topics that would provide new knowledge or tools to help individuals with rights and responsibilities under the ADA (ADA stakeholders) implement and comply with the ADA. The ADA KT Center must identify future research topics based on the information gathered through the systematic reviews conducted under paragraph (b)(1) of this priority, in combination with information about gaps in ADA stakeholder knowledge related to ADA implementation. The ADA KT Center must collaborate with ADA stakeholders, which may include the ADA Regional Centers, to determine these knowledge gaps.

(c) Increased awareness and utilization of ADA-related research findings by appropriate ADA stakeholder groups. The ADA KT Center must contribute to this outcome by—

(1) Combining or adapting knowledge translation approaches from the existing literature to disseminate and promote the use of ADA-related research generated by the ADA National Network Collaborative Research Projects (funded under a separate priority) and other NIDRR grantees as appropriate; and

(2) Organizing and providing logistical and financial support for a conference on ADA-related research. This conference must highlight research findings produced by the ADA National Network Research Collaborative Research Projects and other ADA researchers. This conference must take place in year five of the ADA National Network grant cycle.

(d) Improved understanding of ADA stakeholders' need for and receipt of ADA Network Services over time, including services to address emerging issues related to compliance with ADA requirements. The ADA KT Center must contribute to this outcome by—

(1) Continuing the operation and maintenance of the existing database for data submitted by each of the ADA Regional Centers. This database was previously known as the Outcome Measurement System, and is presently operated by the DBTAC Coordination, Outreach, and Research Center (CORC). This database was designed to contain data on each DBTAC's core activities, including training, technical assistance, public awareness events, and dissemination of materials. In operating and maintaining this database, the ADA KT Center must ensure confidentiality of personally identifiable information, and provide quality control and data-retrieval capabilities, using cost-effective technologies and a user-friendly interface;

(2) Working with the 10 ADA Regional Centers to identify their database-related training and technical assistance needs, and provide training and technical assistance on analyzing data and using the database. The ADA KT Center must provide this formal, scheduled training and technical assistance to all 10 ADA Regional Centers. The ADA KT Center must also provide targeted database-related training and technical assistance to individual ADA Regional Centers on an as-needed basis;

(3) Monitoring the quality of data submitted by the ADA Regional Centers;

(4) Collaborating with NIDRR and the ADA Regional Centers to ensure that the database is accurate, comprehensive, easy to use, and up-to-date; and

(5) Working with NIDRR and the ADA Regional Centers to develop and implement a system for measuring and tracking the outcomes of ADA National Network Services.

Priority 3—ADA National Network Collaborative Research Projects

The Assistant Secretary for Special Education and Rehabilitative Services establishes a priority for the funding of Disability and Rehabilitation Research Projects (DRRP) to serve as National ADA Network Collaborative Research Projects (Collaboratives). Each Collaborative must be designed to contribute to knowledge of national significance related to ADA implementation and compliance. To be eligible under this priority, an applicant must have received a grant under the ADA National Network Regional Center priority (Priority 1). Each Collaborative must conduct research using the regional structure of the ADA National Network as a foundation for multi-site research that would inform ADA implementation efforts. Each Collaborative must consist of the applicant and an additional three or more of the NIDRR-funded ADA Regional Centers (for a minimum of four ADA Regional Centers). In addition, each Collaborative may include researchers who are not a part of the ADA National Network. For purposes of this priority, the term “ADA stakeholders” refers to individuals and entities with rights and responsibilities under the ADA. Each Collaborative must be designed to contribute to the following outcomes:

(a) Improved knowledge related to ADA implementation. The Collaborative must contribute to this outcome by—

(1) Conducting research on one or more areas in the ADA. These areas may include, but are not limited to research on specific titles of the ADA, research on ADA issues in specific industries, or research on ADA issues that are relevant to individuals with specific types of disabling conditions;

(2) Addressing research questions or hypotheses of national significance that are directly relevant to individuals and entities with rights and responsibilities under the ADA (ADA stakeholders); and

(3) Using appropriate and clearly-identified research designs to generate reliable and valid findings.

(b) Improved ADA stakeholder awareness and utilization of research findings produced by the ADA National Network. The Collaboratives must contribute to this outcome by—

(1) Preparing research products (e.g., articles and presentations) that describe the findings of the Collaborative's research. The Collaboratives must also share these research products and research findings with the ADA Regional Centers and the ADA KT Center, which the Department intends to fund under separate priorities, for further dissemination to ADA stakeholders; and

(2) Participating in the ADA National Network research conference.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) Awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use these priorities, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priorities justify the costs.

Summary of Potential Costs and Benefits

The benefits of the Disability and Rehabilitation Research Projects (DRRPs) have been well established over the years in that similar projects have been completed successfully. These final priorities will provide training and technical assistance related to the Americans with Disabilities Act (ADA), and generate new knowledge through research and development. Another benefit of these final priorities is that the establishment of the ADA National Network will improve the lives of individuals with disabilities. The new DRRPs will generate, disseminate, and promote the use of information about the ADA that will improve the options for individuals with disabilities to perform regular activities in the community.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 24, 2011.
Andrew J. Pepin,
Acting Assistant Secretary for Special Education and Rehabilitative Services.

[FR Doc. 2011-16392 Filed 6-28-11; 8:45 am]

BILLING CODE 4000-01-P